DEPARTMENT OF COMMERCE

Office of the Under Secretary for Economic Affairs

Advisory Committee on Data for Evidence Building

AGENCY: Office of the Under Secretary for Economic Affairs, U.S. Department of Commerce.

ACTION: Notice of public meeting.

SUMMARY: The Office of the Under Secretary for Economic Affairs is giving notice of a meeting of the Advisory Committee on Data for Evidence Building (ACDEB). The Committee will review, analyze, and make recommendations on how to promote the use of Federal data for evidence building. The Committee will submit to the Director of the Office of Management and Budget (OMB) and make public an annual report available on the activities and findings of the Committee. Email Gianna Marrone by October 15, 2020, to attend. An agenda and meeting link will be accessible prior to the meeting at www.bea.gov/evidence.

Members of the public who wish to submit written input for the Committee's consideration are welcomed to do so via email to Evidence@bea.gov. Additional opportunities for public input will be forthcoming.

DATES: October 23, 2020. The meeting begins at approximately 9:45 a.m. and adjourns at approximately 12:30 p.m.

ADDRESSES: The safety and well-being of the public, committee members, and our staff is our top priority. In light of the travel restrictions and social-distancing requirements resulting from the COVID-19 outbreak, this meeting will be held virtually.

FOR FURTHER INFORMATION CONTACT: Gianna Marrone, Program Analyst, U.S. Department of Commerce, 4600 Silver Hill Road (BE-64), Suitland, MD 20746; phone (301) 278-9282; email Evidence@bea.gov.

SUPPLEMENTARY INFORMATION: According to the Evidence Act, the Chief Statistician of the United States shall serve as the Chair of the Committee and other members shall be appointed by the Director of the OMB as follows: One agency Chief Information Officer; one agency Chief Privacy Officer; one agency Chief Performance Officer; three members who are agency Chief Data Officers; three members who are agency Evaluation Officers; and three members who are agency Statistical Officials who are members of the Interagency Council for Statistical Policy established under section 3504(e)(8) of title 44. Additionally, at least 10 members will be appointed who are representatives of state and local governments and nongovernmental stakeholders with expertise in government data policy, privacy, technology, transparency policy, evaluation and research methodologies, and other relevant subjects. Committee members serve for a term of two (2) years. Members have been appointed per this statutory balance plan and information on the membership can be found at www.bea.gov/evidence. Any member appointed to fill a vacancy occurring before the expiration of the term for which the member's predecessor was appointed shall be appointed only for the remainder of that term.

This meeting is open to the public. Anyone planning to attend the meeting are asked to RSVP to Gianna Marrone at (301) 278-9282 or Evidence@bea.gov. The call-in number, access code, and meeting link will be posted 24 hours prior to the meeting on www.bea.gov/evidence. The meeting is accessible to people with disabilities. Requests for foreign language interpretation or other auxiliary aids should be directed to Gianna Marrone at Evidence@bea.gov by October 1, 2020.

Persons with extensive questions or statements must submit them in writing by October 16, 2020, to Gianna Marrone, Evidence@bea.gov.

Dated: September 23, 2020.
Lucas Hitt,
Designated Federal Officer, U.S. Department of Commerce.

[FR Doc. 2020-21371 Filed 9-25-20; 8:45 am]

BILLING CODE 3510-MN-P